SMALL BUSINESS ADMINISTRATION

[License No. 02/72-0609]

Wasserstein SBIC Ventures II, LP; Notice Seeking Exemption Under Section 312 of the Small Business Investment Act, Conflicts of Interest

Notice is hereby given that Wasserstein SBIC Ventures II, LP, 1301 Avenue of the Americas, 44th Floor, New York, New York 10019, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2001)). Wasserstein SBIC Ventures II, LP proposes to provide equity financing to Nephros, Inc., 2960 Broadway, New York, New York 10032. The financing is contemplated for general corporate purposes including product development and marketing.

The financing is brought within the purview of section 107.730(a)(1) of the Regulations because WPPN, LP, an Associate of Wasserstein SBIC Ventures II, LP, currently owns greater than 10 percent of Nephros, Inc. and therefore Nephros, Inc. is considered an Associate of Wasserstein SBIC Ventures II, LP, as defined in section 107.50 of the regulations.

Notice is hereby given that any interested person may submit written comments on the transaction to the Associate Administrator for Investment, U.S. Small Business Administration, 409 Third Street, SW., Washington, DC 20416.

Dated: September 11, 2003.
Jeffrey D. Pierson,
Associate Administrator for Investment.

[FR Doc. 03-23633 Filed 9-16-03; 8:45 am]

BILLING CODE 8025-01-P